DEPARTMENT OF DEFENSE

Office of the Secretary

[Transmittal Nos. 13-74]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-74 with attached transmittal and policy justification.

Dated: January 28, 2014.
Aaron Siegel,
Alternate OSD Federal Register Liaison Officer, Department of Defense.

Transmittal No. 13-74

Notice of Proposed Issuance of Letter of Offer Pursuant to Section 36(b)(1) of the Arms Export Control Act, as amended

(i) Prospective Purchaser: Libya

(ii) Total Estimated Value:

Major Defense Equipment* | $ 0 million
Other | $600 million
Total | $600 million

(iii) Description and Quantity or Quantities of Articles or Services under Consideration for Purchase: training for a 6,000 to 8,000 person General Purpose Force for Libya. The training includes services for up to 8 years for training, facilities sustainment and improvements, personnel training and training equipment, 637 M4A4 carbines and small arms ammunition, U.S. Government and contractor technical and logistics support services, Organizational Clothing and Individual Equipment (OCIE), and other related elements of logistical and program support.

(iv) Military Department: Army (DAC)

(v) Prior Related Cases, if any: None

(vi) Sales Commission, Fee, etc., Paid, Offered, or Agreed to be Paid:

(vii) Sensitivity of Technology Contained in the Defense Article or Defense Services Proposed to be Sold: None

(viii) Date Report Delivered to Congress: 22 Jan 2014

* As defined in Section 47(6) of the Arms Export Control Act.

POLICY JUSTIFICATION

Libya—General Purpose Force Training

The Government of Libya has requested a sale of training for a 6,000 to 8,000 person General Purpose Force. The training includes services for up to 8 years for training, facilities sustainment and improvements, personnel training and training equipment, 637 M4A4 carbines and small arms ammunition, U.S. Government and contractor technical and logistics support services, Organizational Clothing and Individual Equipment (OCIE), and other related elements of logistical and program support. The estimated cost is $600 million.

This proposed sale will contribute to the foreign policy and national security of the United States by helping to improve the security of Libya.

The proposed sale will enable Libya to develop, and train a General Purpose Force. The basic, collective and advanced training will be critical for establishing a professional and disciplined General Purpose Force used in protecting Libya's institutions, facilities, and personnel as well as keeping peace and security within Libya.

The proposed sale of this equipment and support will not alter the basic military balance in the region.

The principal contractors are unknown at this time but will be determined during the competitive bid process. There are no known offset agreements in connection with this potential sale.

Implementation of this proposed sale will require the assignment of 350 U.S. Government and contractor personnel for up to 8 years to conduct training at the Novo Selo training site in Bulgaria.

There will be no adverse impact on U.S. defense readiness as a result of this proposed sale.

[FR Doc. 2014-01988 Filed 1-30-14; 8:45 am]

BILLING CODE 5001-06-P